ENVIRONMENTAL PROTECTION AGENCY

40 CFR Parts 141 and 142

[FRL-9708-1]

Public Meeting: Potential Regulatory Implications of the Reduction of Lead in Drinking Water Act of 2011

AGENCY: Environmental Protection Agency (EPA).

ACTION: Notice.

SUMMARY: The U.S. Environmental Protection Agency (EPA) is hosting a public meeting on August 16, 2012, to discuss and solicit input from States, manufacturers, drinking water systems, other interested groups and consumers on the implementation of the Reduction of Lead in Drinking Water Act of 2011 (“the Act”). The Act was signed on January 4, 2011, and will be effective on January 4, 2014. The Act amended Section 1417 of the Safe Drinking Water Act (SDWA), which prohibits the use of certain plumbing products that are not “lead free” (as defined by SDWA), and makes it unlawful to introduce into commerce products that are not “lead free.”

DATES: The public meeting will be held at the Environmental Protection Agency Conference Center (lobby level-room 1204). One Potomac Yard (South Building) 2777 S. Crystal Drive, Arlington, VA 22202 on Thursday, August 16, 2012, from 1:00 p.m. to 4:30 p.m., Eastern Daylight Time (EDT). All attendees must go through a metal detector, sign in with the security desk, and show government issued photo identification to enter the building. Teleconference and webcast attendance will be available. Instructions for registration for the meeting are located in the SUPPLEMENTARY INFORMATION section of this notice.

FOR FURTHER INFORMATION CONTACT: For general information about this meeting, contact Lameka Smith, Standards and Risk Management Division, Office of Ground Water and Drinking Water; by phone (202) 564-1629 or by email smith.lameka@epa.govmailto:. For the full text of the Reduction of Lead in Drinking Water Act of 2011, please visit: www.gpo.gov/fdsys/pkg/PLAW.../pdf/PLAW-111publ380.pdf. For additional information about the Lead and Copper Rule, please visit: http://water.epa.gov/lawsregs/rulesregs/sdwa/lcr/index.cfm.

SUPPLEMENTARY INFORMATION: Registration: Individuals planning to attend in person, by teleconference, or via webcast must register for the meeting by contacting Junie Percy of IntelliTech at (937) 427-4148 ext. 210, or by email junie.percy@itsysteminc.com no later than August 15, 2012. There is no charge for attending this public meeting, but seats and phone lines are limited, so please register as soon as possible.

Reduction of Lead in Drinking Water Act: The Act made several key changes to Section 1417: First, the Act changed the definition of “lead-free” under SDWA by reducing the lead content to a weighted average of not more than 0.25% in the wetted surface material. Second, the Act also amended the definition of “lead free” by adding a specific formula for calculating lead content. Third, the Act created two separate exemptions to the prohibitions on the use and introduction into commerce of products that are not “lead-free.” Some of the changes the Act makes to SDWA Section 1417 raise implementation challenges and issues that may warrant regulatory changes beyond codification of the statutory changes into the Code of Federal Regulations. EPA would make any needed regulatory changes as part of the Lead and Copper Rule long-term revisions (LCR-LTR). However, because the final LCR-LTR will be published after the effective date of the Act, EPA intends to provide information to assist plumbing manufacturers, States, water systems, plumbing retailers and other affected parties in implementing the provisions of the Act starting in 2014. Information from this stakeholder meeting will help inform regulatory revisions that will be included in the LCR-LTR.

Special Accommodations: For information on access or to request special accommodations for individuals with disabilities, please contact Lameka Smith, Standards and Risk Management Division, Office of Ground Water and Drinking Water, U.S. Environmental Protection Agency; by telephone (202) 564-1629 or email smith.lameka@epa.govmailto:. Please allow at least five business days prior to the meeting to provide EPA with time to process your request.

Dated: July 24, 2012.
Pamela S. Barr,
Acting Director, Office of Ground Water and Drinking Water.

[FR Doc. 2012-18525 Filed 7-27-12; 8:45 am]

BILLING CODE 6560-50-P